DEPARTMENT OF ENERGY

Federal Energy Regulatory Commission

[Docket No. RP96-383-036]

Dominion Transmission, Inc.; Notice of Tariff Filing

December 11, 2001.

Take notice that on December 4, 2001, Dominion Transmission, Inc. (DTI) tendered for filing as part of its FERC Gas Tariff, First Revised Volume No. 1, Substitute Second Revised Sheet No. 1406, with an effective date of December 15, 2001.

DTI states that the filing is being made to correct its November 27, 2001, filing in Docket No. RP96-383-035.

In addition, DTI withdrew Sixth Revised Sheet No. 1300, another tariff sheet submitted on November 27, 2001.

The November 27, 2001, filing disclosed a negotiated rate agreement between DTI and Central Hudson Enterprises Corporation (Central Hudson). DTI states that the purpose of the December 4, 2001, filing is to fix a description in one of November 27 tariff sheets that incorrectly suggested that the negotiated rate agreement with Central Hudson constituted a material deviation from the form of service agreement that DTI has on file with the Commission.

DTI states that copies of its letter of transmittal and enclosures have been served upon DTI's customers, interested state commissions and on all persons on the official service list compiled by the Secretary of the Commission for this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31074 Filed 12-17-01; 8:45 am]

BILLING CODE 6717-01-P